DEPARTMENT OF COMMERCE

National Oceanic and Atmospheric Administration

[I.D. 110404C]

Endangered Species; File No. 1510

AGENCY: National Marine Fisheries Service (NMFS), National Oceanic and Atmospheric Administration (NOAA), Commerce.

ACTION: Receipt of application.

SUMMARY: Notice is hereby given that the Liberty Science Center (Richard Weddle, Principal Investigator), 251 Phillip Street, Jersey City, New Jersey 07305, has applied in due form for a permit to take shortnose sturgeon (Acipenser brevirostrum) for purposes of enhancement through educational display.

DATES: Written, telefaxed, or e-mail comments must be received on or before January 14, 2005.

ADDRESSES: The application and related documents are available for review upon written request or by appointment in the following office(s):

Permits, Conservation and Education Division, Office of Protected Resources, NMFS, 1315 East-West Highway, Room 13705, Silver Spring, MD 20910; phone (301)713-2289; fax (301)713-0376; and

Northeast Region, NMFS, One Blackburn Drive, Gloucester, MA 01930-2298; phone (978)281-9200; fax (978)281-9371.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period.

Comments may also be submitted by e-mail. The mailbox address for providing email comments is NMFS.Pr1Comments@noaa.gov. Include in the subject line of the e-mail comment the following document identifier: File No. 1510.

FOR FURTHER INFORMATION CONTACT: Jennifer Jefferies or Amy Sloan, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The Liberty Science Center proposes to receive and use five captive-bred, non-releaseable shortnose sturgeon for the purpose of educational display. The proposed project of displaying endangered cultured shortnose sturgeon responds directly to a recommendation from the NMFS recovery outline for this species. In addition, the facility would create a public education program and exhibit to increase awareness of the shortnose sturgeon and its status. The proposed project would educate the public on shortnose sturgeon life history and the reasons for its declining numbers.

Dated: December 9, 2004.
Jennifer Skidmore,
Acting Chief, Permits, Conservation and Education Division, Office of Protected Resources, National Marine Fisheries Service.

[FR Doc. 04-27430 Filed 12-14-04; 8:45 am]

BILLING CODE 3510-22-S